Title 3—

The President

Proclamation 8367 of April 30, 2009

Law Day, U.S.A., 2009

By the President of the United States of America

A Proclamation

In 1958, President Eisenhower established Law Day as “a day of national dedication to the principles of government under law.” Each year on Law Day, we celebrate our commitment to the rule of law. That great commitment is enshrined in the Declaration of Independence and the United States Constitution, and has been reaffirmed by the words and deeds of great Americans throughout our Nation’s history.

This year we celebrate the bicentennial of the birth of one such American, President Abraham Lincoln. Lincoln rose from humble beginnings to guide our Nation through the most turbulent period in its history. His dedication to the rule of law and to equality under the law, and his refusal to retreat from the greatest moral challenge ever to confront us, gave us the Emancipation Proclamation and the preservation of our Union. His dedication also gave us the Gettysburg Address, with its resolution that “government of the people, by the people, for the people, shall not perish from the earth.” Indeed, Lincoln was one of the greatest Presidents and one of the greatest lawyers, in our Nation’s history.

Lincoln’s lasting legacy is his vision of the “more perfect Union” promised in our Constitution’s preamble. According to Lincoln, “The legitimate object of government is to do for a community of people whatever they need to have done, but cannot do at all, or cannot do so well for themselves, in their separate and individual capacities.” This vision of a true United States of America, bound together by a recognition of the common good, guided our country through its darkest hour and helped it re-emerge as a beacon of freedom and equality under law.

On this Law Day, I encourage Americans to reflect on this legacy. By continuing a national conversation on the principles for which Lincoln stood, and by highlighting the attributes of this great American, we can help ensure that the legacy of our sixteenth President endures and that the United States remains dedicated to the principles of government under law.

NOW, THEREFORE, I, BARACK OBAMA, President of the United States of America, in accordance with Public Law 87-20, as amended, do hereby proclaim May 1, 2009, as Law Day, U.S.A. I call upon the people of the United States to acknowledge the importance of our Nation’s legal and judicial systems with appropriate ceremonies and activities, and to display the flag of the United States in support of this national observance.

IN WITNESS WHEREOF, I have hereunto set my hand this thirtieth day of April, in the year of our Lord two thousand nine, and of the Independence of the United States of America the two hundred and thirty-third.

[FR Doc. E9-10557

Filed 5-4-09; 12:00 pm]

Billing code 3195-W9-P